DEPARTMENT OF HEALTH AND HUMAN SERVICES

Agency for Healthcare Research and Quality

AHRQ Intent To Publish Grant and Contract Solicitations for Comparative Effectiveness Research (CER) Projects With Funds From the American Recovery and Reinvestment Act (ARRA)

AGENCY: Agency for Healthcare Research and Quality (AHRQ), HHS.

ACTION: Notice of Intent.

SUMMARY: AHRQ is announcing the Agency's intention to support new CER projects, with funding from the American Recovery and Reinvestment Act (ARRA). The ARRA appropriated $300 million to AHRQ for support of CER. ARRA funding will focus, initially, on 14 priority conditions established by the Secretary of the Department of Health and Human Services under Section 1013 of the Medicare Prescription Drug, Improvement, and Modernization Act of 2003. These priority conditions were identified through a process involving discussion with, and extensive input from, the public as well as Federal agencies. The list of priority conditions is relevant to the Medicare, Medicaid, and State Children's Health Insurance Program (SCHIP) programs, and can be found at: http://effectivehealthcare.ahrq.gov/aboutUs.cfm?abouttype=program#Conditions.

DATES: AHRQ anticipates grant and contract solicitations to be published beginning in the fall, 2009, with funding to commence in spring, 2010. Interested parties may sign up to receive updates about AHRQ's Effective Health Care Program at http://effectivehealthcare.ahrq.gov/.

ADDRESSES: The future CER solicitations will be published in the NIH Guide: http://grants.nih.gov/grants/guide/index.html.

FOR FURTHER INFORMATION CONTACT: Until the solicitations are published, AHRQ cannot provide information on their contents.

Direct any general comments regarding the Effective Health Care program to: Lia Hotchkiss, MPH, PMP, Center for Outcomes and Evidence, Agency for Healthcare Research and Quality, 540 Gaither Road, Rockville, MD 20850, Telephone: 301-427-1502, E-mail address: Effectivehealthcare@ahrq.hhs.gov.

SUPPLEMENTARY INFORMATION:

Background

The Agency for Healthcare Research and Quality (AHRQ) has been supporting comparative effectiveness research for many years and since 2005 through AHRQ's Effective Health Care Program, which was authorized under Section 1013 of the Medicare Prescription Drug, Improvement, and Modernization Act of 2003. The Effective Health Care program provides systematic reviews and develops other translational information and tools designed to inform health care decision making. The Effective Health Care Program advances the methodology of comparative effectiveness research (CER) and provides training grants to enhance the pool of researchers who can perform CER.

Comparative Effectiveness Research Initiative Description

Funding Opportunity Announcements soliciting research grant applications for CER will provide $148 million for evidence generation. This includes $100 million for the Clinical and Health Outcomes Initiative in Comparative Effectiveness (CHOICE), a new, coordinated, national effort to establish a series of prospective pragmatic clinical comparative effectiveness studies that measure the benefits treatments produce in routine clinical practice and will include novel study designs focusing on real-world and under-represented populations (children, elderly, racial and ethnic minorities, and other understudied populations), and $48 million for the establishment or enhancement of national patient registries that can be used for researching the longitudinal effects of different interventions and collecting data on under-represented populations. Additional grant funding is expected to include $29.5 million to support innovative translation and dissemination grants related to CER, as well as $20 million to support training and career development in CER.

Requests for Contracts for CER will provide $9.5 million to establish an infrastructure to identify new and/or emerging issues for comparative effectiveness review investments. Also, $10 million will establish a Citizen's Forum to formally engage all stakeholders, and to expand and standardize public involvement in the entire Effective Health Care enterprise.

Additionally, AHRQ anticipates supporting other grants ($1 million) and enhancing existing contracts for evidence synthesis ($50 million), evidence generation ($24 million), translation and dissemination ($5 million), and salary and benefits for ARRA-related full-time equivalent positions ($3 million).

Dated: August 11, 2009.
Carolyn M. Clancy,
AHRQ, Director.

[FR Doc. E9-19758 Filed 8-18-09; 8:45 am]

BILLING CODE 4160-90-M